DEPARTMENT OF HOUSING AND URBAN DEVELOPMENT

[Docket No. FR-5907-N-02]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202)- 720-8873; COE: Mr. Scott Whiteford, Army Corps of Engineers, Real Estate, CEMP-CR, 441 G Street NW., Washington, DC 20314; (202) 761-5542; INTERIOR: Mr. Michael Wright, Acquisition & Property Management, Department of the Interior, 3960 N. 56th Ave. #104, Hollywood, FL. 33021; (443) 223-4639 (These are not toll-free numbers).

Dated: December 30, 2015.
Brian P. Fitzmaurice,
Director, Division of Community Assistance, Office of Special Needs Assistance Programs.

TITLE V, FEDERAL SURPLUS PROPERTY PROGRAM FEDERAL REGISTER REPORT FOR 01/08/2016

Suitable/Available Properties

Building

Arkansas

2 Structures

Blue Mountain Lake Field Office

CESWL-OP-NB-B

Havana AR 72842

Landholding Agency: COE

Property Number: 31201540004

Status: Underutilized

Directions: Waveland Park Vault Toilet, BLUMTN-43365, 16′x10′8″ Tower Heights Park, Vault Toilet, BLUMTN-43347, 10′8″x24′

Comments: Deteriorated/decay; will require substantial repairs; contact COE for more information

2 Structures

Blue Mountain Lake Field Office

CESWL-OP-NB-B

Plainview AR 72842

Landholding Agency: COE

Property Number: 31201540005

Status: Underutilized

Directions: Fish Cleaning Station with canopy, NIMROD-44953, 144 sq. ft.; Fish Cleaning Station with canopy, NIMROD-44942

Comments: Deteriorated/decay; will require substantial repairs; contact COE for more information

Louisiana

Cooler Building (29-0007-John)

255 Turnage Rd.

(31*10′46.0″N92*40′38.1″W)

Elmer LA 71424

Landholding Agency: Agriculture

Property Number: 15201540005

Status: Excess

Comments: off-site removal only; 384 sq. ft.; storage; new roofing/siding needed; contact Agriculture for more information

Oil House Building

(29-0003-John); 255 Turnage Rd

(31*10′46.0″N92*40′38.1″W)

Elmer LA 71424

Landholding Agency: Agriculture

Property Number: 15201540006

Status: Excess

Comments: off-site removal only; 384 sq. ft.; storage; new roofing/siding needed; contact Agriculture for more information

Pesticide Storage

(29-0026-John); 255 Turnage Rd.

(31*10′46.0N92*40′38.1″W)

Elmer LA 71424

Landholding Agency: Agriculture

Property Number: 15201540007

Status: Excess

Comments: off-site removal only; 192 sq. ft.; new roofing/siding needed; contact Agriculture for more information

Mississippi

FHA Insect Study Housing

(20-0018-HAR); 23332 Success Rd.

(30*37′38″N89*02′54″W)

Saucier MS 39547

Landholding Agency: Agriculture

Property Number: 15201540008

Status: Excess

Comments: off-site removal only; 3,200 sq. ft.; removal difficult due to size/type; inadequately insulated; no heating source; contact Agriculture for more information

Vermont

Tract #1-205-30,

Bartlett House; Appalachian National Scenic

Trail; 563 Bartlett Brook Rd.

Pomfret VT 05067

Landholding Agency: Interior

Property Number: 61201540005

Status: Excess

Comments: off-site removal only; 900 sq. ft.; structurally sound; boarded up; contact Interior for more information

Unsuitable Properties

Building

California

Vogelsang Backpacker's Camp

Composting Toilet

Yosemite National Park

Yosemite CA 95389

Landholding Agency: Interior

Property Number: 61201540007

Status: Unutilized

Directions: The Vogelsang High Sierra Camp is a 7 mile hike from Tuolumne Meadows near Tioga Pass CA State Rte. 120

Comments: Documented deficiencies: Severe rodent infestation and transmission of the hantavirus is significantly probable; clear threat to physical safety

Reasons: Extensive deterioration

Emergency Services Shed

Yosemite National Park

9034 Village Dr.

Yosemite Valley CA 95389

Landholding Agency: Interior

Property Number: 61201540008

Status: Excess

Comments: Documented deficiencies: Significant rot to the foundation posts and framing; clear threat to physical safety

Reasons: Extensive deterioration

Minnesota

Marshland Visitor Center

Saint Croix National Scenic Riverway; 15975

State Highway 70

Pine City MN 55063

Landholding Agency: Interior

Property Number: 61201540009

Status: Unutilized

Comments: Documented deficiencies: Severe rodent infestation and transmission of hantavirus is probable; clear threat to physical safety

Reasons: Extensive deterioration

Vermont

4 Buildings

Appalachian National Scenic Trail

563 Bartlett Brook Rd.

Pomfret VT 05067

Landholding Agency: Interior

Property Number: 61201540006

Status: Excess

Directions: Bartlett Barn, Bartlett Calf House, Milkhouse, Bartlett Sugarhouse

Comments: Documented deficiencies: Structurally unsound; extremely dilapidated conditions; clear threat to physical safety

Reasons: Extensive deterioration

[FR Doc. 2015-33189 Filed 1-7-16; 8:45 am]

BILLING CODE 4210-67-P